DEPARTMENT OF COMMERCE

International Trade Administration

[A-570-878]

Notice of Amended Final Determination of Sales at Less Than Fair Value: Saccharin From the People's Republic of China

AGENCY: Import Administration, International Trade Administration, Department of Commerce.

EFFECTIVE DATE: June 13, 2003.

FOR FURTHER INFORMATION CONTACT: Mark Hoadley (Suzhou Fine Chemicals Group Co., Ltd.) at (202) 482-3148, Javier Barrientos or Jessica Burdick (Shanghai Fortune Chemical Co., Ltd.) at (202) 482-2243 and (202) 482-0666, or Sally C. Gannon at (202) 482-0162; Office of AD/CVD Enforcement VII, Import Administration, International Trade Administration, U.S. Department of Commerce, 14th Street and Constitution Avenue, N.W., Washington D.C. 20230.

CORRECTION

On May 20, 2003, the Department of Commerce (the Department) published in the Federal Register the Notice of Final Determination of Sales at Less Than Fair Value: Saccharin From the People's Republic of China (68 FR 27530) (Final Determination). In the Final Determination, the Department inadvertently typed an incorrect rate for the People's Republic of China (PRC)-wide rate. The PRC-wide rate of 329.94 percent, as set forth in the Final Determination of Saccharin from the People's Republic of China: Analysis of Adverse Facts Available Rate, Memorandum from Javier Barrientos, through Mark Hoadley, to the File (May 12, 2003), and its attachments, is the correct PRC-wide rate, rather than the rate of 329.33 percent published in the Final Determination.

Thus, we are issuing this amended final in accordance with section 351.224(e) of the Department's regulations, which states that the Department will correct any ministerial error by amending the final determination. See 19 CFR 351.224(e). Under the regulations, a ministerial error includes mistakes in “addition, subtraction, or other arithmetic function, clerical error resulting from inaccurate copying, duplication, or the like.” See 19 CFR 351.224(f). Therefore, the clerical error in the PRC-wide rate in the Final Determination qualifies as a ministerial error and will be corrected in accordance with section 351.224(e) of the Department's regulations.

Suspension of Liquidation

In accordance with section 735(c)(1)(B) of the Tariff Act of 1930, as amended (the Act), we are directing the U.S. Bureau of Customs and Border Protection (BCBP) to continue to suspend liquidation of all entries of saccharin from the PRC. For the PRC-wide entity, the BCBP shall require a cash deposit or the posting of a bond based on the estimated weighted-average dumping margin shown above. These suspension-of-liquidation instructions will remain in effect until further notice.

International Trade Commission Notification

In accordance with section 735(d) of the Act, we have notified the International Trade Commission of our amended determination.

We are issuing and publishing this determination in accordance with sections 735(d) and 777(i)(1) of the Tariff Act of 1930, as amended (the Act).

Dated: June 6, 2003.
Joseph A. Spetrini,
Acting Assistant Secretary for Import Administration.

[FR Doc. 03-14980 Filed 6-12-03; 8:45 am]

BILLING CODE 3510-DS-S